INTERNATIONAL TRADE COMMISSION

[Investigation No. 337-TA-007; Investigation No. 337-TA-1021 (Consolidated)]

Certain Personal Transporters, Components Thereof, and Packaging and Manuals Therefor and Certain Personal Transporters and Components Thereof; Commission Determination Not To Review an Initial Determination Granting Complainants' Motion To Amend the Complaint and Notice of Investigation

AGENCY: U.S. International Trade Commission.

ACTION: Notice.

SUMMARY: Notice is hereby given that the U.S. International Trade Commission has determined not to review an initial determination (“ID”) (Order No. 17) of the presiding administrative law judge (“ALJ”) granting complainants' motion to amend the complaint and notice of investigation.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Inv. No. 337-TA-1007, Certain Personal Transporters, Components Thereof, and Packaging and Manuals Therefor under section 337 of the Tariff Act of 1930, as amended, 19 U.S.C. § 1337 (“section 337”), on June 24, 2016, based on a complaint filed by Segway, Inc. of Bedford, New Hampshire; DEKA Products Limited Partnership of Manchester, New Hampshire; and Ninebot (Tianjin) Technology Co., Ltd. of Tianjin, China (collectively, “Complainants”). 81 Fed. Reg. 41342-43 (Jun. 24, 2016). The complaint alleges a violation of section 337 by reason of infringement of certain claims of U.S. Patent Nos. 6,302,230; 6,651,763 (“the ’763 patent”); 7,023,330 (“the ’330 patent”); 7,275,607; 7,479,872 (“the ’872 patent”); and 9,188,984 (“the ’984 patent”); and U.S. Trademark Registration Nos. 2,727,948 and 2,769,942. The complaint named numerous respondents. The Commission's Office of Unfair Import Investigations (“OUII”) was named as a party.

On September 21, 2016, the Commission instituted Inv. No. 337-TA-1021, Certain Personal Transporters and Components Thereof, based on a complaint filed by the same Complainants. 81 Fed. Reg. 64936-37 (Sept. 21, 2016). The complaint alleges a violation of section 337 by reason of infringement of certain claims of U.S. Patent Nos. 6,302,230 and 7,275,607. The complaint named numerous respondents. OUII was also named as a party. The Commission assigned Investigation No. 337-TA-1021 to ALJ Shaw, the presiding ALJ in Investigation No. 337-TA-1007, and directed him to consolidate these investigations. See id. at 64937.

On November 14, 2016, the ALJ issued an ID (Order No. 17) in which he granted complainants' motion to amend the complaint and notice of investigation to assert the ’763, ’330, and ’872 patents against respondent Jetson Electric Bikes LLC, and to terminate all asserted claims of the ’984 patent as to all respondents. No party petitioned for review of the subject ID, and the Commission has determined not to review it.

The authority for the Commission's determination is contained in section 337 of the Tariff Act of 1930, as amended (19 U.S.C. § 1337), and in Part 210 of the Commission's Rules of Practice and Procedure (19 CFR part 210).

By order of the Commission.
Issued: December 7, 2016.
Lisa R. Barton,
Secretary to the Commission.

[FR Doc. 2016-29781 Filed 12-12-16; 8:45 am]

BILLING CODE 7020-02-P